DEPARTMENT OF DEFENSE

Department of the Army

Supplemental Programmatic Environmental Assessment for Army 2020 Force Structure Realignment and Draft Finding of No Significant Impact

AGENCY: Department of the Army, DoD.

ACTION: Notice of Availability.

SUMMARY: The Department of the Army has completed a Supplemental Programmatic Environmental Assessment (SPEA) for Army force structure realignment and is making a draft Finding of No Significant Impact (FNSI) available for public comment. The draft FNSI incorporates the SPEA, which does not identify any significant environmental impacts from the proposed action, with the exception of socioeconomic impacts at most installations. The draft FNSI concludes that preparation of an Environmental Impact Statement (EIS) is not required.

Current budgetary projections require the Army to analyze the reduction of active component end strength below the 490,000 Soldier reduction analyzed in the January 2013 Programmatic Environmental Assessment for Army 2020 Force Structure Realignment (PEA) as the further reductions exceed the scope of the 2013 PEA analysis. The SPEA builds on the foundation of the 2013 PEA and assesses the impacts of a potential reduction of an additional 70,000 Soldiers and associated reductions in Army civilians, down to an Active Component end-strength of 420,000 Soldiers. These reductions are necessary to achieve the savings required by the Budget Control Act of 2011.

Nearly all Army installations will be affected in some way by additional reductions. The 2013 PEA evaluated 21 Army and joint base installations. With the deeper reductions now anticipated, the Army must consider nine additional installations that could experience reductions of 1,000 or more Active Component Soldiers and/or Army civilians.

The SPEA does not identify any significant environmental impacts anticipated as a result of implementing the proposed action, with the exception of socioeconomic impacts at most installations; consequently, the preparation of an environmental impact statement is not required.

DATES: Submit comments on or before August 25, 2014.

ADDRESSES: Written comments should be sent to: U.S. Army Environmental Command, ATTN: SPEA Public Comments, 2450 Connell Road (Building 2264), Joint Base San Antonio-Fort Sam Houston, TX 78234-7664; email: usarmy.jbsa.aec.nepa@mail.mil.

FOR FURTHER INFORMATION CONTACT: Please contact the U.S. Army Environmental Command Public Affairs Office, (210) 466-1590 or toll-free 855-846-3940, or email at usarmy.jbsa.aec.nepa@mail.mil.

SUPPLEMENTARY INFORMATION: In 2013, the Army announced a reduction of its force from a war time peak of about 570,000 in 2010 to 490,000, as well as a substantial realignment of the remaining force. These changes were required to achieve the savings specified in the Budget Control Act of 2011 and to adjust force structure to meet evolving mission requirements. To analyze their potential environmental and socioeconomic impacts, the Army prepared the 2013 PEA. Since the 2013 PEA was completed, however, Department of Defense mission and fiscal considerations have continued to change, and the future end-strength of the Army must be reduced below the 490,000 covered by the 2013 PEA. The 2014 Quadrennial Defense Review (QDR) states that the active Army will reduce to a force of 440,000-450,000 Soldiers. The 2014 QDR also states if sequestration-level cuts are imposed in FY 2016 and beyond, Active Component end-strength would be reduced to 420,000. As a result, the Army has prepared a SPEA, building on the information and analysis contained in the 2013 PEA, to assess the environmental and socioeconomic impacts of further reductions and to provide information to decision makers and the public.

The installations that could experience reductions of 1,000 or more Active Component Soldiers and/or Army civilians—the appropriate threshold for inclusion of installations at the programmatic level of analysis—and which are specifically analyzed in the SPEA are Aberdeen Proving Ground, MD; Fort Belvoir, VA; Fort Benning, GA; Fort Bliss, TX; Fort Bragg, NC; Fort Campbell, KY; Fort Carson, CO; Fort Drum, NY; Fort Gordon, GA; Fort Hood, TX; Fort Huachuca, AZ; Fort Irwin, CA; Fort Jackson, SC; Fort Knox, KY; Fort Leavenworth, KS; Fort Lee, VA; Fort Leonard Wood, MO; Fort Meade, MD; Fort Polk, LA; Fort Riley, KS; Fort Rucker, AL; Fort Sill, OK; Fort Stewart, GA; Fort Wainwright, AK; Joint Base Elmendorf-Richardson, AK; Joint Base Langley-Eustis, VA; Joint Base Lewis-McChord, WA; Joint Base San Antonio—Fort Sam Houston, TX; and, United States Army Garrison Hawaii (Fort Shafter and Schofield Barracks), HI. The SPEA provides an assessment of the possible direct, indirect, and cumulative environmental and socioeconomic impacts of the greatest combined Soldier and Army civilian reductions being considered at each installation.

In addition to the action alternative, the Army also evaluated a No Action Alternative. The No Action Alternative reflects the FY 2012 force structure and retains the Army at the FY 2012 authorized end-strength of about 562,000 Active Component Soldiers and 320,000 Army civilians. While some reductions have already been decided on since the April 2013 FNSI was signed, based on the 2013 PEA, the No Action Alternative in the SPEA allows for a comparison of baseline conditions with the environmental impacts of the action alternative.

Environmental resource areas associated with the implementation of the proposed action, and therefore analyzed in the SPEA, are air quality, airspace, cultural resources, noise, soils, biological resources, wetlands, water resources, facilities, socioeconomics, energy demand and generation, land use, hazardous materials and waste, and traffic and transportation. Although no installations were identified as having potentially significant impacts to environmental resources should the full reductions be implemented, the SPEA concludes that most installations would have significant socioeconomic impacts.

As was the case for the 2013 PEA, the reductions assessed in the SPEA are not tied to specific units. Options to achieve this additional force restructure are too numerous for analysis at this time; therefore, analysis of reductions related to specific units or organizations are not within the programmatic scope of the SPEA. During the force structure decision process, the Army will identify those units and organizations to be affected by reductions over the 2015-2020 timeframe so as to meet the Army's national security mission and operate within a constrained fiscal environment.

The SPEA and draft FNSI may be accessed at: http://aec.army.mil/Services/Support/NEPA/Documents.aspx. Also, in approximately one week after publication of the Notice of Availability in the Federal Register by the Department of the Army, copies of the SPEA and draft FNSI will be available in various public libraries near the affected installations. Although the Army's NEPA regulations generally only require a 30-day public comment period, this public comment period will be 60 days.

Brenda S. Bowen,
Army Federal Register Liaison Officer.

[FR Doc. 2014-14733 Filed 6-25-14; 8:45 am]

BILLING CODE 3710-08-P